DEPARTMENT OF EDUCATION

Applications for New Awards; Fulbright-Hays Doctoral Dissertation Research Abroad Fellowship Program; Amendment of Selection Criteria and Extension of Application Deadline Date

AGENCY: Office of Postsecondary Education, Department of Education.

ACTION: Notice; amendments.

SUMMARY: On February 10, 2023, the Department of Education (Department) published in the Federal Register a notice inviting applications (NIA) for fiscal year (FY) 2023 for the Fulbright-Hays Doctoral Dissertation Research Abroad (DDRA) Fellowship Program, Assistance Listing Number 84.022A. We are amending selection criterion (b)(3) and the selection criteria point allocations in the NIA and extending the deadline date for transmittal of applications until April 28, 2023. All other information in the NIA remains the same.

DATES:

Applicable Date: These amendments are applicable on April 10, 2023.

Deadline for Transmittal of Applications: April 28, 2023.

FOR FURTHER INFORMATION CONTACT: Amy Marrion, U.S. Department of Education, 400 Maryland Avenue SW, Room 258-24, Washington, DC 20202. Telephone: (202) 453-5628. Email: DDRA@ed.gov.

If you are deaf, hard of hearing, or have a speech disability and wish to access telecommunications relay services, please dial 7-1-1.

SUPPLEMENTARY INFORMATION: On February 10, 2023, we published the NIA for the 2023 DDRA competition in the Federal Register (88 FR 8832). This NIA established selection criteria for the 2023 competition in accordance with 34 CFR 662.21. Consistent with 34 CFR 662.21(c)(3), among these was selection criterion (b)(3), Qualifications of the applicant. Under selection criterion (b)(3), the Secretary would consider “[t]he applicant's proficiency in one or more of the languages (other than English and the applicant's native language) of the country or countries of research, and the specific measures to be taken to overcome any anticipated language barriers” for a total of 1 point.

On March 24, 2023, the Western District Court of Texas in the matter of Lujan v. Cardona, No. 3:22-CV-00158-DCG, ECF No. 37, granted in part a preliminary injunction, which “vacates 34 CFR 662.21(c)(3) as to all 2023 Fulbright-Hays Fellowship applicants until the Court reaches a merits decision in this case or the U.S. Department of Education publishes a final rule amending 34 CFR 662.21(c)(3).” Subsequently, on April 3, 2023, the Court amended its order to clarify “that its injunction applies only insofar as the Foreign Language Criterion prohibited considering an applicant's native language skills” Lujan, ECF No. 40. As a result, the Department is amending the selection criteria for the 2023 DDRA competition, such that selection criterion (b)(3) allows native speakers to receive points for conducting research projects in any language in which they have proficiency, other than English. Additionally, the Department is increasing the number of points associated with selection criterion (b)(3) from 1 point to 10 points, and the number of points allocated to selection criterion (b) from 26 points to 35 points.

In order to give all applicants the opportunity to apply under the amended NIA, the Department also extends the deadline date for transmittal of applications until April 28, 2023. All other information in the NIA remains the same.

Amendments

In FR Doc. 2023-02827 appearing on pages 8832-8837 of the Federal Register of February 10, 2023, we make the following amendments:

1. On page 8832, under DATES in the left column, after the heading “Deadline for Transmittal of Applications,” remove “April 11, 2023” and add, in its place, “April 28, 2023”.

2. On page 8835, in the right column, in paragraph (b) introductory language, after the heading “Qualifications of the Applicant,” remove “26 points” and add, in its place, “35 points”.

3. On page 8835, in the right column, in paragraph (b)(3):

A. Remove “and the applicant's native language”.

B. Remove “1 point” and add, in its place, “10 points”.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2023-07419 Filed 4-7-23; 8:45 am]

BILLING CODE 4000-01-P